DEPARTMENT OF TRANSPORTATION

Coast Guard

33 CFR Part 117

[CGD08-99-007]

RIN 2115-AE47

Drawbridge Operation Regulation; Inner Harbor Navigation Canal, LA

AGENCY: Coast Guard, DOT.

ACTION: Withdrawal of notice of proposed rulemaking.

SUMMARY: The Coast Guard is withdrawing a notice of proposed rulemaking for the regulation governing the operation of the L & N Railroad/Old Gentilly Road bascule span drawbridge across the Inner Harbor Navigation Canal, mile 2.9 at New Orleans, Orleans Parish, Louisiana. This proposed rule was published, with request for comments, to allow the bridge to have remained closed to navigation for temporary periods of time, during the months of May, June, July, and September, 1999, for replacement of the damaged fender system. A final rule was not published for the proposed rulemaking. The fender system has been replaced and the temporary rule is no longer necessary.

DATES: The notice of proposed rulemaking is withdrawn effective May 21, 2001.

ADDRESSES: Unless otherwise indicated, documents referred to in this notice are available for inspection or copying at the office of the Eighth Coast Guard District, Bridge Administration Branch, Hale Boggs Federal Building, room 1313, 501 Magazine Street, New Orleans, Louisiana 70130-3396 between 7 a.m. and 4 p.m., Monday through Friday, except Federal holidays. The Bridge Administration Branch of the Eighth Coast Guard District maintains the public docket for this notice of proposed rulemaking.

FOR FURTHER INFORMATION CONTACT: Phil Johnson, Bridge Administration Branch, at the address given above, telephone (504) 589-2965.

SUPPLEMENTARY INFORMATION:

Regulatory History

On March 15, 1999, the Coast Guard published a notice of proposed rulemaking in 64 FR 12795. The proposed temporary rule would have allowed the draw of the L & N bascule span bridge to remain closed to navigation daily from 8 a. m. until noon and from 1 p.m. until 5 p.m. from May 17 through May 28, 1999, June 1 through July 2, 1999, July 6 through September 3, 1999 and from September 7 through September 22, 1999. The comment period was limited to 45 days because the rule needed to be effective by May 17, 1999. At the end of the comment period, no comments had been received. However, there was not time to publish a final temporary rule prior to May 17, 1999. On July 19, 1999, the Coast Guard received notification that the fender system had been replaced ahead of schedule and the temporary rule was no longer necessary. The Coast Guard is withdrawing this notice of temporary rulemaking from drawbridge operating regulations (CGD08-99-007).

Dated: May 10, 2001.
Roy J. Casto,
Rear Admiral, U.S. Coast Guard, Commander, Eighth Coast Guard District.

[FR Doc. 01-12721 Filed 5-18-01; 8:45 am]

BILLING CODE 4910-15-U